DEPARTMENT OF HOUSING AND URBAN DEVELOPMENT

[Docket Nos. FR-6000-FA-30 and FR-6000-FA-33]

Announcement of Funding Awards: Housing Counseling Grants Fiscal Year 2016

AGENCY: Office of the Assistant Secretary for Housing—Federal Housing Commissioner, HUD.

ACTION: Announcement of funding awards.

SUMMARY: In accordance with section 102(a)(4)(C) of the Department of Housing and Urban Development Reform Act of 1989 (42 U.S.C. 3545), this document notifies the public of Fiscal Year (FY) 2016 funding decisions made by the Department in competitions for funding under two Notices of Funding Availability (NOFA; the FY 2016 and 2017 Comprehensive Housing Counseling Grant Program NOFA and the FY 2016 and 2017 Housing Counseling Training Grant Program NOFA.

FOR FURTHER INFORMATION CONTACT: Brian Siebenlist, Director, Office of Policy and Grant Administration, Room 9224, Office of Housing Counseling, Department of Housing and Urban Development, 451 7th Street SW., Washington, DC 20410, telephone number 202-402-5415. Hearing- or speech-impaired individuals may access this number by calling the Federal Relay Service at telephone number 800-877-8339. (This is a toll-free number.)

SUPPLEMENTARY INFORMATION:

The Housing Counseling Program is authorized by Section 106 of the Housing and Urban Development Act of 1968 (12 U.S.C. 1701x). Consistent with this authority, HUD enters into agreement with qualified public or private nonprofit organizations to provide housing counseling services to low- and moderate-income individuals and families nationwide. The housing counseling services supported by the Housing Counseling Program include providing information and assistance to the homeless, renters, homebuyers, homeowners, and senior citizens in areas such as pre-purchase counseling, financial management, property maintenance and other forms of housing assistance to help individuals and families improve their housing conditions and meet the responsibilities of tenancy and homeownership.

HUD funding of housing counseling agencies is not guaranteed, and when funds are awarded, a HUD grant does not cover all expenses incurred by an agency to deliver housing counseling services. Counseling agencies must actively seek additional funds from other sources such as city, county, state and federal agencies and from private entities to ensure that they have sufficient operating funds. The availability of housing counseling grants depends upon appropriations and the outcome of the award competition.

In accordance with Section 102(a)(4)(C) of the Department of Housing and Urban Development Reform Act of 1989 (103 Stat. 1987, 42 U.S.C. 3545), today's Federal Register publication lists in Appendices A and B the names, addresses, and amounts of each award made under the FY 2016 and 2017 Comprehensive Housing Counseling NOFA and the FY 2016 and 2017 Housing Counseling Training NOFA, respectively. The requirements for the NOFAs are found in the following documents:

1. General Section to the Department's Fiscal Year 2016 NOFAs for Discretionary Programs, available at: http://portal.hud.gov/hudportal/documents/huddoc?id=2016nofa-gensec.pdf

2. Notice of Funding Availability for the Department's Fiscal Years 2016 and 2017 Comprehensive Housing Counseling Grant Program, available at: http://portal.hud.gov/hudportal/documents/huddoc?id=2016chcnofa.pdf

3. HUD's FY 2016—2017 Housing Counseling Training Grant Notice of Funding Availability, available at: http://portal.hud.gov/hudportal/documents/huddoc?id=2016hctnofa.pdf.

Applications were scored and selected for funding on the basis of selection criteria contained in the NOFAs. HUD awarded more than $40 million in comprehensive grants to support the housing counseling services of 31 national and regional organizations, five multi-state organizations, 17 State Housing Finance Agencies and 231 local housing counseling agencies. HUD awarded more than $2 million to four national organizations to provide accessible and affordable training of housing counselors. Appendices A and B list award recipients under each Housing Counseling Program NOFA.

The Catalog of Federal Domestic Assistance number for the Housing Counseling Program is 14.169.

Dated: August 22, 2016.
Edward L. Golding,
Principal Deputy Assistant Secretary for Housing.

Appendix A—List of FY 2016 Awardees for the FY 2016-2017 Comprehensive Housing Counseling NOFA

Intermediary Organizations (31)

CATHOLIC CHARITIES USA

2050 Ballenger Avenue

Suite 400

ALEXANDRIA, VA 22314-6847

Grant Type: COMPREHENSIVE COUNSELING

Amount Awarded: $951,150.00

CCCS OF GREATER ATLANTA—DBA CLEARPOINT CREDIT COUNSELING SOLUTIONS

270 Peachtree St, Suite 1800

ATLANTA, GA 30303-1217

Grant Type: COMPREHENSIVE COUNSELING

Amount Awarded: $1,394,427.00

CITIZENS' HOUSING AND PLANNING ASSOCIATION, INC.

18 Tremont Street,

Suite 401

BOSTON, MA 02108-2301

Grant Type: COMPREHENSIVE COUNSELING

Amount Awarded: $681,862.00

CONSUMER CREDIT COUNSELING SERVICES OF SAN FRANCISCO D/B/A BALANCE

595 Market St

Suite 920

SAN FRANCISCO, CA 94105-2802

Grant Type: COMPREHENSIVE COUNSELING

Amount Awarded: $528,492.00

GREENPATH, INC.

36500 Corporate Drive

FARMINGTON HILLS, MI 48331-3553

Grant Type: COMPREHENSIVE COUNSELING

Amount Awarded: $2,121,893.00

HOMEFREE—U S A

6200 Baltimore Avenue

RIVERDALE, MD 20737-1054

Grant Type: COMPREHENSIVE COUNSELING

Amount Awarded: $1,890,150.00

HOMEOWNERSHIP PRESERVATION FOUNDATION

7645 Lyndale Ave. South

Suite 250

MINNEAPOLIS, MN 55423-4084

Grant Type: COMPREHENSIVE COUNSELING

Amount Awarded: $953,027.00

HOUSING & COMMUNITY DEVELOPMENT NETWORK OF NEW JERSEY

145 West Hanover Street

TRENTON, NJ 08618-4823

Grant Type: COMPREHENSIVE COUNSELING

Amount Awarded: $257,837.00

HOUSING ACTION ILLINOIS

11 E. Adams St, Suite 1601

CHICAGO, IL 60603-6304

Grant Type: COMPREHENSIVE COUNSELING

Amount Awarded: $698,569.00

HOUSING PARTNERSHIP NETWORK

1 Washington Mall, 12th Fl

BOSTON, MA 02108-2603

Grant Type: COMPREHENSIVE COUNSELING

Amount Awarded: $840,041.00

MINNESOTA HOMEOWNERSHIP CENTER

1000 Payne Avenue

Suite 200

SAINT PAUL, MN 55130-3986

Grant Type: COMPREHENSIVE COUNSELING

Amount Awarded: $628,729.00

MISSISSIPPI HOMEBUYER EDUCATION CENTER—INITIATIVE

350 West Woodrow Wilson

Suite 3480

JACKSON, MS 39213-7681

Grant Type: COMPREHENSIVE COUNSELING

Amount Awarded: $328,871.00

MON VALLEY INITIATIVE

303-305 E. 8th Avenue

HOMESTEAD, PA 15120-1517

Grant Type: COMPREHENSIVE COUNSELING

Amount Awarded: $676,333.00

MONEY MANAGEMENT INTERNATIONAL INC.

14141 Southwest Fwy

Sugar Land, TX 77478-3493

Grant Type: COMPREHENSIVE COUNSELING

Amount Awarded: $1,288,565.00

MONTANA HOMEOWNERSHIP NETWORK DBA NEIGHBORWORKS MONTANA

509 1st Ave S

Great Falls, MT 59401-3604

Grant Type: COMPREHENSIVE COUNSELING

Amount Awarded: $392,140.00

NATIONAL ASSOCIATION OF REAL ESTATE BROKERS—INVESTMENT DIVISION, INC

7677 OakPort Street, Suite 1030, 10th Fl

OAKLAND, CA 94621-1929

Grant Type: COMPREHENSIVE COUNSELING

Amount Awarded: $891,284.00

NATIONAL CAPACD

1628 16th Street, NW

4th Floor

WASHINGTON, DC 20009-3064

Grant Type: COMPREHENSIVE COUNSELING

Amount Awarded: $582,731.00

NATIONAL COMMUNITY REINVESTMENT COALITION, INC.

727 15th St NW

Washington, DC 20005-2168

Grant Type: COMPREHENSIVE COUNSELING

Amount Awarded: $1,171,196.00

NATIONAL COUNCIL OF LA RAZA

1126 16th Street, NW., Suite 600

Raul Yzaguirre Building

WASHINGTON, DC 20036-4845

Grant Type: COMPREHENSIVE COUNSELING

Amount Awarded: $1,535,279.00

NATIONAL FOUNDATION FOR CREDIT COUNSELING, INC.

2000 M St. NW

Suite 505

WASHINGTON, DC 20036-3307

Grant Type: COMPREHENSIVE COUNSELING

Amount Awarded: $1,388,227.00

NATIONAL URBAN LEAGUE

120 Wall Street

7th Floor

NEW YORK, NY 10005-3904

Grant Type: COMPREHENSIVE COUNSELING

Amount Awarded: $954,370.00

NEIGHBORHOOD REINVESTMENT CORP. DBA NEIGHBORWORKS AMERICA

999 North Capital Street NE

Suite 900

WASHINGTON, DC 20002-4684

Grant Type: COMPREHENSIVE COUNSELING

Amount Awarded: $3,000,000.00

NEIGHBORHOOD STABILIZATION CORPORATION (NACA COUNSELING SUBSIDIARY)

225 Centre Street, Suite 100

BOSTON, MA 02119-1298

Grant Type: COMPREHENSIVE COUNSELING

Amount Awarded: $1,454,859.00

NEW YORK MORTGAGE COALITION

85 Broad Street

17th Floor

NEW YORK, NY 10004-2434

Grant Type: COMPREHENSIVE COUNSELING

Amount Awarded: $387,475.00

NORTH CAROLINA HOUSING COALITION

5800 Faringdon Place

RALEIGH, NC 27609-3930

Grant Type: COMPREHENSIVE COUNSELING

Amount Awarded: $576,379.00

NUEVA ESPERANZA, INC.

4261 N 5th St

Philadelphia, PA 19140-2615

Grant Type: COMPREHENSIVE COUNSELING

Amount Awarded: $563,093.00

PATHSTONE CORPORATION

400 East Avenue

ROCHESTER, NY 14607-1910

Grant Type: COMPREHENSIVE COUNSELING

Amount Awarded: $224,763.00

RURAL COMMUNITY ASSISTANCE CORPORATION

3120 Freeboard Drive

Suite 201

WEST SACRAMENTO, CA 95691-5039

Grant Type: COMPREHENSIVE COUNSELING

Amount Awarded: $708,376.00

TELAMON CORPORATION

5560 Munford Road

Suite 109

RALEIGH, NC 27612-2635

Grant Type: COMPREHENSIVE COUNSELING

Amount Awarded: $368,670.00

UNITED WAY OF CENTRAL ALABAMA, INC.

3600 8th Avenue

BIRMINGHAM, AL 35222-3250

Grant Type: COMPREHENSIVE COUNSELING

Amount Awarded: $263,748.00

WEST TENNESSEE LEGAL SERVICES, INCORPORATED

210 West Main Street

JACKSON, TN 38301-6114

Grant Type: COMPREHENSIVE COUNSELING

Amount Awarded: $704,242.00

Multi-State Organizations (5)

CREDIT ADVISORS FOUNDATION

1818 S. 72nd Street

OMAHA, NE 68124-1704

Grant Type: COMPREHENSIVE COUNSELING

Amount Awarded: $119,893.00

CREDIT CARD MGMT SVCS, INC D/B/A DEBTHELPER.COM

1325 N Congress Ave

#201

WEST PALM BEACH, FL 33401-2005

Grant Type: COMPREHENSIVE COUNSELING

Amount Awarded: $173,455.00

DEBT MANAGEMENT CREDIT COUNSELING CORP.

3310 N. Federal Highway

LIGHTHOUSE POINT, FL 33064-6742

Grant Type: COMPREHENSIVE COUNSELING

Amount Awarded: $108,414.00

OPERATION HOPE, INC

707 Wilshire Blvd. Suite 3030

LOS ANGELES, CA 90017-3582

Grant Type: COMPREHENSIVE COUNSELING

Amount Awarded: $200,000.00

TRANSFORMANCE (FORMERLY CCCS OF GREATER DALLAS)

8737 King George Drive

Suite 200

DALLAS, TX 75235-2222

Grant Type: COMPREHENSIVE COUNSELING

Amount Awarded: $184,245.00

State Housing Finance Agencies (17)

COLORADO HOUSING AND FINANCE AUTHORITY

1981 Blake St.

DENVER, CO 80202-1229

Grant Type: COMPREHENSIVE COUNSELING

Amount Awarded: $499,691.00

CONNECTICUT HOUSING FINANCE AUTHORITY

999 West Street

ROCKY HILL, CT 06067-3011

Grant Type: COMPREHENSIVE COUNSELING

Amount Awarded: $193,191.00

GEORGIA HOUSING AND FINANCE AUTHORITY

60 Executive Park South, NE

ATLANTA, GA 30329-2296

Grant Type: COMPREHENSIVE COUNSELING

Amount Awarded: $570,000.00

IDAHO HOUSING AND FINANCE ASSOCIATION

565 West Myrtle

BOISE, ID 83702-7675

Grant Type: COMPREHENSIVE COUNSELING

Amount Awarded: $230,194.00

KENTUCKY HOUSING CORPORATION

1231 Louisville Rd.

FRANKFORT, KY 40601-6156

Grant Type: COMPREHENSIVE COUNSELING

Amount Awarded: $306,062.00

LOUISIANA HOUSING CORPORATION

2415 Quail Drive

BATON ROUGE, LA 70808-0120

Grant Type: COMPREHENSIVE COUNSELING

Amount Awarded: $491,352.00

MAINE STATE HOUSING AUTHORITY

353 Water Street

AUGUSTA, ME 04330-4665

Grant Type: COMPREHENSIVE COUNSELING

Amount Awarded: $178,000.00

MICHIGAN STATE HOUSING DEVELOPMENT AUTHORITY

735 E. Michigan Avenue

LANSING, MI 48912-1474

Grant Type: COMPREHENSIVE COUNSELING

Amount Awarded: $482,134.00

MISSISSIPPI HOME CORPORATION

735 Riverside Drive

JACKSON, MS 39202-1166

Grant Type: COMPREHENSIVE COUNSELING

Amount Awarded: $312,688.00

NEW HAMPSHIRE HOUSING FINANCE AUTHORITY

32 Constitution Dr

Bedford, NH 03110-6062

Grant Type: COMPREHENSIVE COUNSELING

Amount Awarded: $249,333.00

NEW JERSEY HOUSING AND MORTGAGE FINANCE AGENCY

637 South Clinton Avenue

TRENTON, NJ 08611-1811

Grant Type: COMPREHENSIVE COUNSELING

Amount Awarded: $136,430.00

NEW YORK STATE HOUSING FINANCE AGENCY

38-40 State Street

4th Floor

ALBANY, NY 12207-2837

Grant Type: COMPREHENSIVE COUNSELING

Amount Awarded: $597,095.00

PENNSYLVANIA HOUSING FINANCE AGENCY

211 North Front Street

HARRISBURG, PA 17101-1406

Grant Type: COMPREHENSIVE COUNSELING

Amount Awarded: $1,366,258.00

SOUTH DAKOTA HOUSING DEVELOPMENT AUTHORITY

3060 E. Elizabeth Street

PIERRE, SD 57501-5876

Grant Type: COMPREHENSIVE COUNSELING

Amount Awarded: $233,760.00

VIRGIN ISLANDS HOUSING FINANCE AUTHORITY

3202 Demarara No.3 Frenchtown

No.3 Frenchtown Plaza

Suite 200

St. Thomas, VI 00802

Grant Type: COMPREHENSIVE COUNSELING

Amount Awarded: $21,971.00

VIRGINIA HOUSING DEVELOPMENT AUTHORITY

601 S. Belvidere Street

RICHMOND, VA 23220-6504

Grant Type: COMPREHENSIVE COUNSELING

Amount Awarded: $1,040,918.00

WASHINGTON STATE HOUSING FINANCE COMMISSION

1000 2nd Avenue Suite 2700

SEATTLE, WA 98104-3601

Grant Type: COMPREHENSIVE COUNSELING

Amount Awarded: $411,356.00

Local Housing Counseling Agencies (181)

ACTION FOR BOSTON COMMUNITY DEVELOPMENT, INC.

178 Tremont St

Boston, MA 02111-1006

Grant Type: COMPREHENSIVE COUNSELING

Amount Awarded: $25,889.00

AFFORDABLE HOMEOWNERSHIP FOUNDATION INC

5264 Clayton Ct Ste 1

Fort Myers, FL 33907-2112

Grant Type: COMPREHENSIVE COUNSELING

Amount Awarded: $18,456.00

AFFORDABLE HOUSING ENTERPRISES, INC.

214 South 12th Street

GRIFFIN, GA 30224-2812

Grant Type: COMPREHENSIVE COUNSELING

Amount Awarded: $18,832.00

AFRICAN DEVELOPMENT CENTER OF MINNESOTA

1931 S 5th St

Minneapolis, MN 55454-1257

Grant Type: COMPREHENSIVE COUNSELING

Amount Awarded: $17,411.00

ALLEGANY COUNTY COMMUNITY OPPORTUNITIES AND RURAL DEVELOPMENT (ACCORD) CORP.

PO Box 573

Belmont, NY 14813-0573

Grant Type: COMPREHENSIVE COUNSELING

Amount Awarded: $23,890.00

APPALACHIAN HOUSING AND REDEVELOPMENT CORPORATION

PO Box 1428

Rome, GA 30162-1428

Grant Type: COMPREHENSIVE COUNSELING

Amount Awarded: $12,730.00

AREA COMMITTEE TO IMPROVE OPPORTUNITIES NOW, INC.

594 Oconee Street

ATHENS, GA 30605-1721

Grant Type: COMPREHENSIVE COUNSELING

Amount Awarded: $18,080.00

ARUNDEL COMMUNITY DEVELOPMENT SERVICE INC

2666 Riva Road

Suite 210

ANNAPOLIS, MD 21401-7345

Grant Type: COMPREHENSIVE COUNSELING

Amount Awarded: $22,385.00

ASIAN INCORPORATED

1167 Mission Street, 4th Floor

SAN FRANCISCO, CA 94103-1544

Grant Type: COMPREHENSIVE COUNSELING

Amount Awarded: $20,504.00

BAY AREA HOUSING, INC

114 Washington Ave

Bay City, MI 48708-5846

Grant Type: COMPREHENSIVE COUNSELING

Amount Awarded: $21,089.00

BEAUFORT COUNTY BLACK CHAMBER OF COMMERCE

801 Bladen Street

BEAUFORT, SC 29902-4574

Grant Type: COMPREHENSIVE COUNSELING

Amount Awarded: $23,388.00

BENNINGTON-RUTLAND OPPORTUNITY COUNCIL, INC. (BROC)

45 Union Street

RUTLAND, VT 05701-3956

Grant Type: COMPREHENSIVE COUNSELING

Amount Awarded: $24,809.00

BETTER NEIGHBORHOODS, INCORPORATED

120 Emmons St

Schenectady, NY 12304-2859

Grant Type: COMPREHENSIVE COUNSELING

Amount Awarded: $21,089.00

BRIGHT COMMUNITY TRUST, INC.

2605 Enterprise Road E. Suite 230

CLEARWATER, FL 33759-1067

Grant Type: COMPREHENSIVE COUNSELING

Amount Awarded: $18,539.00

BROWARD COUNTY HOUSING AUTHORITY

4780 N State Road 7

LAUDERDALE LAKES, FL 33319-5860

Grant Type: COMPREHENSIVE COUNSELING

Amount Awarded: $20,713.00

CAMPBELLSVILLE HOUSING AND REDEVELOPMENT AUTHORITY

400 Ingram Ave

PO Box 597

CAMPBELLSVILLE, KY 42718-1627

Grant Type: COMPREHENSIVE COUNSELING

Amount Awarded: $11,970.00

CATHOLIC CHARITIES DIOCESE OF ST. CLOUD

157 Roosevelt Rd Ste 200

Saint Cloud, MN 56301-5485

Grant Type: COMPREHENSIVE COUNSELING

Amount Awarded: $20,000.00

CATHOLIC SOCIAL SERVICES—FALL RIVER

PO Box M

Fall River, MA 02724-0388

Grant Type: COMPREHENSIVE COUNSELING

Amount Awarded: $14,987.00

CCCS OF ALABAMA—MONTGOMERY

640 South Lawrence Street

Farmer Wilson Building

MONTGOMERY, AL 36104-5810

Grant Type: COMPREHENSIVE COUNSELING

Amount Awarded: $21,466.00

CCCS OF KERN AND TULARE COUNTIES

2001 F Street

BAKERSFIELD, CA 93301-4237

Grant Type: COMPREHENSIVE COUNSELING

Amount Awarded: $15,906.00

CENTER FOR SIOUXLAND

715 Douglas St

Sioux City, IA 51101-1021

Grant Type: COMPREHENSIVE COUNSELING

Amount Awarded: $24,349.00

CENTRAL JERSEY HOUSING RESOURCE CENTER, INC.

600 1st Ave Ste 3

Raritan, NJ 08869-1346

Grant Type: COMPREHENSIVE COUNSELING

Amount Awarded: $14,500.00

CHELSEA RESTORATION CORPORATION

154 Pearl St Ofc 2

CHELSEA, MA 02150-2868

Grant Type: COMPREHENSIVE COUNSELING

Amount Awarded: $18,999.00

CHOCTAW HOUSING AUTHORITY

207 Jim Monroe Road

HUGO, OK 74743-5621

Grant Type: COMPREHENSIVE COUNSELING

Amount Awarded: $15,823.00

CITY OF BLOOMINGTON—HOUSING AND NEIGHBORHOOD DEVELOPMENT (HAND)

401 N Morton Street

BLOOMINGTON, IN 47404-3729

Grant Type: COMPREHENSIVE COUNSELING

Amount Awarded: $22,737.00

CITY OF FULTON COMMUNITY DEVELOPMENT AGENCY

125 West Broadway

FULTON, NY 13069-2215

Grant Type: COMPREHENSIVE COUNSELING

Amount Awarded: $17,494.00

CITY OF SAN ANTONIO/DEPARTMENT OF HUMAN SERVICES

106 S. Saint Marys St, 7th Floor

SAN ANTONIO, TX 78205-3601

Grant Type: COMPREHENSIVE COUNSELING

Amount Awarded: $21,716.00

CITY OF VACAVILLE DEPARTMENT OF HOUSING SERVICES

40 Eldridge Avenue Suite 2

VACAVILLE, CA 95688-6824

Grant Type: COMPREHENSIVE COUNSELING

Amount Awarded: $17,244.00

CLINCH-POWELL RESOURCE CONSERVATION AND DEVELOPMENT COUNCIL, INC

7995 Rutledge Pike

RUTLEDGE, TN 37861-3003

Grant Type: COMPREHENSIVE COUNSELING

Amount Awarded: $22,761.00

COMMUNITY ACTION AGENCY

1214 Greenwood Avenue

JACKSON, MI 49203-3037

Grant Type: COMPREHENSIVE COUNSELING

Amount Awarded: $27,501.00

COMMUNITY ACTION AGENCY OF NORTHWEST ALABAMA, INC.

745 Thompson St

Florence, AL 35630-3867

Grant Type: COMPREHENSIVE COUNSELING

Amount Awarded: $21,925.00

COMMUNITY ACTION AGENCY OF OKLAHOMA CITY AND OKLAHOMA/CANADIAN COUNTIES, INC.

319 SW 25th St

Oklahoma City, OK 73109-5921

Grant Type: COMPREHENSIVE COUNSELING

Amount Awarded: $16,492.00

COMMUNITY ACTION NETWORK, INC.

7891 Highway 69 S

Springville, TN 38256-5400

Grant Type: COMPREHENSIVE COUNSELING

Amount Awarded: $19,961.00

COMMUNITY ACTION PARTNERSHIP OF NORTH ALABAMA, INC.

1909 Central Pkwy SW

Decatur, AL 35601-6822

Grant Type: COMPREHENSIVE COUNSELING

Amount Awarded: $19,501.00

COMMUNITY ACTION PARTNERSHIP OF SUBURBAN HENNEPIN

8800 Highway 7 #401

ST LOUIS PARK, MN 55426-3929

Grant Type: COMPREHENSIVE COUNSELING

Amount Awarded: $32,952.00

COMMUNITY ACTION PARTNERSHIP, HUNTSVILLE/MADISON & LIMESTONE COUNTIES, INC

3516 Stringfield Rd NW

HUNTSVILLE, AL 35810-1758

Grant Type: COMPREHENSIVE COUNSELING

Amount Awarded: $18,080.00

COMMUNITY ACTION PROGRAM OF EVANSVILLE & VANDERBURGH COUNTY, INC

401 SE 6th St Ste 1

Evansville, IN 47713-1249

Grant Type: COMPREHENSIVE COUNSELING

Amount Awarded: $19,292.00

COMMUNITY CONNECTION OF NORTHEAST OREGON, INC.

2802 Adams Ave

La Grande, OR 97850-5267

Grant Type: COMPREHENSIVE COUNSELING

Amount Awarded: $17,244.00

COMMUNITY DEVELOPMENT & IMPROVEMENT CORP.

100 Rogers Terrace

AIKEN, SC 29801-3435

Grant Type: COMPREHENSIVE COUNSELING

Amount Awarded: $16,868.00

COMMUNITY DEVELOPMENT SUPPORT ASSOCIATION

2615 E Randolph Ave

Enid, OK 73701-4670

Grant Type: COMPREHENSIVE COUNSELING

Amount Awarded: $16,492.00

COMMUNITY ENTERPRISE INVESTMENTS, INCORPORATED

302 North Barcelona St

PENSACOLA, FL 32501-4806

Grant Type: COMPREHENSIVE COUNSELING

Amount Awarded: $19,877.00

COMMUNITY HOUSING AND SHELTER SERVICES

708 H Street, Ste. B

MODESTO, CA 95354-3436

Grant Type: COMPREHENSIVE COUNSELING

Amount Awarded: $18,706.00

COMMUNITY HOUSING INITIATIVE, INC

3033 College Wood Dr

Melbourne, FL 32934-8324

Grant Type: COMPREHENSIVE COUNSELING

Amount Awarded: $20,420.00

COMMUNITY HOUSING NETWORK, INC

570 Kirts Blvd. Suite 231

TROY, MI 48084-4156

Grant Type: COMPREHENSIVE COUNSELING

Amount Awarded: $18,749.00

COMMUNITY HOUSING SOLUTIONS

12114 Larchmere Blvd.

CLEVELAND, OH 44120-1139

Grant Type: COMPREHENSIVE COUNSELING

Amount Awarded: $16,951.00

COMMUNITY INVESTMENT CORPORATION OF DECATUR, INC

2121 S. Imboden Court

DECATUR, IL 62521-5286

Grant Type: COMPREHENSIVE COUNSELING

Amount Awarded: $18,749.00

COMMUNITY RENEWAL TEAM, INC.

330 Market Street

HARTFORD, CT 06120-2901

Grant Type: COMPREHENSIVE COUNSELING

Amount Awarded: $14,987.00

COMMUNITY SERVICE NETWORK, INC.

136 Elm Street

STONEHAM, MA 02180-3426

Grant Type: COMPREHENSIVE COUNSELING

Amount Awarded: $18,222.00

COMMUNITY SERVICE PROGRAMS OF WEST ALABAMA, INC.

601 Black Bears Way

Tuscaloosa, AL 35401-4807

Grant Type: COMPREHENSIVE COUNSELING

Amount Awarded: $22,678.00

COMMUNITY SERVICES AND EMPLOYMENT TRAINING, INC. (CSET)

312 NW 3rd Avenue

VISALIA, CA 93291-3626

Grant Type: COMPREHENSIVE COUNSELING

Amount Awarded: $15,823.00

COMMUNITY SERVICES LEAGUE

404 North Noland Road

INDEPENDENCE, MO 64050-3057

Grant Type: COMPREHENSIVE COUNSELING

Amount Awarded: $20,504.00

COMPASS FAMILY & COMMUNITY SERVICES

535 Marmion Ave

Youngstown, OH 44502-2323

Grant Type: COMPREHENSIVE COUNSELING

Amount Awarded: $18,373.00

COMPREHENSIVE HOUSING RESOURCES, INC.

21450 Gibralter Dr Ste 1

Port Charlotte, FL 33952-5417

Grant Type: COMPREHENSIVE COUNSELING

Amount Awarded: $18,247.00

CONSUMER CREDIT COUNSELING SERVICE OF CENTRAL OKLAHOMA

3230 N Rockwell Ave

Bethany, OK 73008-4034

Grant Type: COMPREHENSIVE COUNSELING

Amount Awarded: $30,176.00

CORPORACION DESARROLLO ECONOMICO, VIVIENDA Y SALUD

Calle Eugenio M. de Hostos #175

Esq Puro Girau

ARECIBO, PR 00612-4709

Grant Type: COMPREHENSIVE COUNSELING

Amount Awarded: $21,340.00

COUNTY OF BERGEN, DEPARTMENT OF HUMAN SERVICES, DIVISION OF SENIOR SERVICES

1 Bergen County Plz Fl 2

Hackensack, NJ 07601-7075

Grant Type: COMPREHENSIVE COUNSELING

Amount Awarded: $16,258.00

COUNTYCORP

130 W. Second Street

Suite 1420

DAYTON, OH 45402-1500

Grant Type: COMPREHENSIVE COUNSELING

Amount Awarded: $18,080.00

CRAWFORD SEBASTIAN COMMUNITY DEVELOPMENT COUNCIL

4831 Armour St.

FORT SMITH, AR 72904-4523

Grant Type: COMPREHENSIVE COUNSELING

Amount Awarded: $21,925.00

DIVERSIFIED HOUSING DEVELOPMENT, INC.

8025 Liberty Rd

Windsor Mill, MD 21244-2966

Grant Type: COMPREHENSIVE COUNSELING

Amount Awarded: $21,549.00

EAST DALLAS COMMUNITY ORGANIZATION

4210 Junius St Fl 5

Dallas, TX 75246-1429

Grant Type: COMPREHENSIVE COUNSELING

Amount Awarded: $14,611.00

EASTERN EIGHT COMMUNITY DEVELOPMENT CORP.

214 East Watauga Avenue

JOHNSON CITY, TN 37601-4630

Grant Type: COMPREHENSIVE COUNSELING

Amount Awarded: $22,301.00

EASTERN IOWA REGIONAL HOUSING AUTHORITY

7600 Commerce Park

DUBUQUE, IA 52002-9673

Grant Type: COMPREHENSIVE COUNSELING

Amount Awarded: $19,644.00

ECONOMIC OPPORTUNITY FOR SAVANNAH CHATHAM COUNTY AREA, INC.

618 W Anderson St

SAVANNAH, GA 31415-5420

Grant Type: COMPREHENSIVE COUNSELING

Amount Awarded: $17,118.00

EDEN COUNCIL FOR HOPE AND OPPORTUNITY (ECHO)

770 A St

Hayward, CA 94541-3956

Grant Type: COMPREHENSIVE COUNSELING

Amount Awarded: $21,340.00

ELIZABETH CITY STATE UNIVERSITY COMMUNITY DEVELOPMENT PROGRAM

1704 Weeksville Rd.

ELIZABETH CITY, NC 27909-7977

Grant Type: COMPREHENSIVE COUNSELING

Amount Awarded: $21,466.00

FAIR HOUSING CONTACT SERVICE

441 Wolf Ledges Pkwy Ste 200

Akron, OH 44311-1038

Grant Type: COMPREHENSIVE COUNSELING

Amount Awarded: $23,113.00

FAIR HOUSING COUNCIL OF RIVERSIDE COUNTY, INC

3933 Mission Inn Ave

RIVERSIDE, CA 92501-3219

Grant Type: COMPREHENSIVE COUNSELING

Amount Awarded: $29,072.00

FAIR HOUSING OF MARIN

1314 Lincoln Ave.

SAN RAFAEL, CA 94901-2105

Grant Type: COMPREHENSIVE COUNSELING

Amount Awarded: $18,247.00

FAIR HOUSING RESOURCE CENTER

1100 Mentor Ave

PAINESVILLE, OH 44077-1832

Grant Type: COMPREHENSIVE COUNSELING

Amount Awarded: $28,630.00

FAMILY HOUSING ADVISORY SERVICES, INC.

2401 Lake St

Omaha, NE 68111-3872

Grant Type: COMPREHENSIVE COUNSELING

Amount Awarded: $22,092.00

FOOTHILLS CREDIT COUNSELING, INC.

709 W Main St

SUITE A

Forest City, NC 28043-2820

Grant Type: COMPREHENSIVE COUNSELING

Amount Awarded: $22,277.00

FREDERICK COMMUNITY ACTION AGENCY

100 S Market St

FREDERICK, MD 21701-5527

Grant Type: COMPREHENSIVE COUNSELING

Amount Awarded: $24,701.00

GAP COMMUNITY DEVELOPMENT RESOURCES, INC.

129 West Fowlkes Street

Suite 137

FRANKLIN, TN 37064-3561

Grant Type: COMPREHENSIVE COUNSELING

Amount Awarded: $18,916.00

GARRETT COUNTY COMMUNITY ACTION COMMITTEE INC.

104 E Center St Apt 3

Oakland, MD 21550-1341

Grant Type: COMPREHENSIVE COUNSELING

Amount Awarded: $23,680.00

GRAND RAPIDS URBAN LEAGUE

745 Eastern Ave SE

Grand Rapids, MI 49503-5544

Grant Type: COMPREHENSIVE COUNSELING

Amount Awarded: $17,411.00

GREATER LANSING HOUSING COALITION

600 W Maple St

Lansing, MI 48906-5093

Grant Type: COMPREHENSIVE COUNSELING

Amount Awarded: $20,713.00

HABITAT FOR HUMANITY OF JACKSONVILLE, INC.

2404 Hubbard Street

JACKSONVILLE, FL 32206-2911

Grant Type: COMPREHENSIVE COUNSELING

Amount Awarded: $16,658.00

HABITAT FOR HUMANITY, STANISLAUS COUNTY

630 Kearney Avenue

MODESTO, CA 95350-5714

Grant Type: COMPREHENSIVE COUNSELING

Amount Awarded: $22,301.00

HAGERSTOWN NEIGHBORHOOD DEVELOPMENT PARTNERSHIP, INC. (HNDP)

21 E Franklin St

Hagerstown, MD 21740-4914

Grant Type: COMPREHENSIVE COUNSELING

Amount Awarded: $21,089.00

HARFORD COUNTY HOUSING AGENCY

15 S Main St Ste 106

Bel Air, MD 21014-8723

Grant Type: COMPREHENSIVE COUNSELING

Amount Awarded: $23,865.00

HIGH PLAINS COMMUNITY DEVELOPMENT CORP.

803 E. 3rd St Ste 4

CHADRON, NE 69337-2855

Grant Type: COMPREHENSIVE COUNSELING

Amount Awarded: $26,725.00

HISPANIC ASSOCIATION OF CONTRACTORS AND ENTERPRISES

167 W Allegheny Ave

Philadelphia, PA 19140-5846

Grant Type: COMPREHENSIVE COUNSELING

Amount Awarded: $23,137.00

HISPANIC BROTHERHOOD OF ROCKVILLE CENTRE, INC.

59 Clinton Ave

Rockville Centre, NY 11570-4042

Grant Type: COMPREHENSIVE COUNSELING

Amount Awarded: $17,787.00

HOME DEVELOPMENT RESOURCES, INC.

430 Prior Street SE

GAINESVILLE, GA 30501-3402

Grant Type: COMPREHENSIVE COUNSELING

Amount Awarded: $13,858.00

HOME OPPORTUNITIES MADE EASY, INC. (HOME, INC.)

1111 Ninth Street, Suite 210

DES MOINES, IA 50314-2527

Grant Type: COMPREHENSIVE COUNSELING

Amount Awarded: $18,749.00

HOME OWNERSHIP RESOURCE CENTER OF LEE COUNTY

2915 Colonial Blvd. Ste 200

Fort Myers, FL 33966-1009

Grant Type: COMPREHENSIVE COUNSELING

Amount Awarded: $16,575.00

HOME PARTNERSHIP, INC. (HPI)

626 Towne Center Dr

Suite 102

Joppa, MD 21085-4446

Grant Type: COMPREHENSIVE COUNSELING

Amount Awarded: $17,620.00

HOOSIER UPLANDS ECONOMIC DEVELOPMENT CORPORATION

500 W Main St

MITCHELL, IN 47446-1411

Grant Type: COMPREHENSIVE COUNSELING

Amount Awarded: $21,549.00

HOUSING ASSISTANCE AND DEVELOPMENT SERVICES, INC.

215 E 12th Ave

BOWLING GREEN, KY 42101-3403

Grant Type: COMPREHENSIVE COUNSELING

Amount Awarded: $18,456.00

HOUSING AUTHORITY OF MINGO COUNTY

5026 Helena Avenue

Delbarton, WV 25670

Grant Type: COMPREHENSIVE COUNSELING

Amount Awarded: $12,730.00

HOUSING AUTHORITY OF YAMHILL COUNTY

135 NE Dunn Pl

McMinnville, OR 97128-9081

Grant Type: COMPREHENSIVE COUNSELING

Amount Awarded: $21,089.00

HOUSING AUTHORITY OF THE CITY OF GREENSBORO D/B/A GREENSBORO HOUSING AUTHORITY

450 N Church St

Greensboro, NC 27401-2001

Grant Type: COMPREHENSIVE COUNSELING

Amount Awarded: $80,662.00

HOUSING AUTHORITY OF THE CITY OF HIGH POINT

500 E Russell Ave

High Point, NC 27260-6746

Grant Type: COMPREHENSIVE COUNSELING

Amount Awarded: $19,501.00

HOUSING AUTHORITY OF THE CITY OF JACKSON

2747 Livingston Rd

Jackson, MS 39213-6928

Grant Type: COMPREHENSIVE COUNSELING

Amount Awarded: $19,877.00

HOUSING AUTHORITY OF THE CITY OF PATERSON

60 Van Houten St

Paterson, NJ 07505-1028

Grant Type: COMPREHENSIVE COUNSELING

Amount Awarded: $19,501.00

HOUSING AUTHORITY OF THE CITY OF PRICHARD

200 W. Prichard Avenue

Prichard, AL 36610-0307

Grant Type: COMPREHENSIVE COUNSELING

Amount Awarded: $15,906.00

HOUSING COUNSELING SERVICES, INCORPORATED

2410 17th St NW Ste 100

Washington, DC 20009-2724

Grant Type: COMPREHENSIVE COUNSELING

Amount Awarded: $67,782.00

HOUSING EDUCATION AND ECONOMIC DEVELOPMENT, INC.

3405 Medgar Evers Blvd.

Jackson, MS 39213-6360

Grant Type: COMPREHENSIVE COUNSELING

Amount Awarded: $29,047.00

HOUSING INITIATIVE PARTNERSHIP, INC. (“HIP”)

6525 Belcrest Road

Suite 555

HYATTSVILLE, MD 20782-2003

Grant Type: COMPREHENSIVE COUNSELING

Amount Awarded: $29,800.00

HOUSING PARTNERS OF TULSA, INCORPORATED

415 E. Independence Street

TULSA, OK 74106-5727

Grant Type: COMPREHENSIVE COUNSELING

Amount Awarded: $14,694.00

HOUSING SERVICES MID MICHIGAN (FORMERLY HOUSING SERVICES FOR EATON COUNTY)

319 S Cochran Ave

Charlotte, MI 48813-1555

Grant Type: COMPREHENSIVE COUNSELING

Amount Awarded: $22,009.00

IN AFFORDABLE HOUSING, INCORPORATED

108 South Rodney Parham

LITTLE ROCK, AR 72205-4708

Grant Type: COMPREHENSIVE COUNSELING

Amount Awarded: $23,739.00

INTERCOMMUNITY ACTION, INC. D/B/A INTERACT, JOURNEY'S WAY

403 Rector St

Philadelphia, PA 19128-3522

Grant Type: COMPREHENSIVE COUNSELING

Amount Awarded: $14,694.00

JACKSONVILLE AREA LEGAL AID, INC.

126 W Adams St

Jacksonville, FL 32202-3849

Grant Type: COMPREHENSIVE COUNSELING

Amount Awarded: $20,044.00

JEFFERSON COUNTY HOUSING AUTHORITY

3700 Industrial Parkway

BIRMINGHAM, AL 35217-5316

Grant Type: COMPREHENSIVE COUNSELING

Amount Awarded: $13,482.00

JONESBORO URBAN RENEWAL AND HOUSING AUTHORITY HOUSING AND COMMUNITY DEVELOPMENT ORGANIZATION (JURHA HCDO)

330 Union St

Jonesboro, AR 72401-2815

Grant Type: COMPREHENSIVE COUNSELING

Amount Awarded: $19,501.00

KANAWHA INSTITUTE FOR SOCIAL RESEARCH & ACTION, INC.

131 Perkins Ave

DUNBAR, WV 25064-1433

Grant Type: COMPREHENSIVE COUNSELING

Amount Awarded: $13,942.00

KCEOC COMMUNITY ACTION PARTNERSHIP, INC.

PO Box 490

Barbourville, KY 40906-0490

Grant Type: COMPREHENSIVE COUNSELING

Amount Awarded: $18,163.00

LAKE COUNTY HOUSING AUTHORITY

33928 North U.S. Highway 45

GRAYSLAKE, IL 60030-1714

Grant Type: COMPREHENSIVE COUNSELING

Amount Awarded: $21,006.00

LATIN UNITED COMMUNITY HOUSING ASSOCIATION

3541 W. North Avenue

CHICAGO, IL 60647-4808

Grant Type: COMPREHENSIVE COUNSELING

Amount Awarded: $22,301.00

LEE COUNTY HOUSING DEVELOPMENT CORPORATION

PO Box 2854

Fort Myers, FL 33902-2854

Grant Type: COMPREHENSIVE COUNSELING

Amount Awarded: $15,823.00

LIMA ALLEN COUNCIL ON COMMUNITY AFFAIRS

540 S. Central Ave.,

LIMA, OH 45804-1306

Grant Type: COMPREHENSIVE COUNSELING

Amount Awarded: $17,787.00

LINCOLN HILLS DEVELOPMENT CORPORATION

302 Main St

TELL CITY, IN 47586-2207

Grant Type: COMPREHENSIVE COUNSELING

Amount Awarded: $19,877.00

LIVE THE DREAM DEVELOPMENT, INC

247 Double Springs Road

BOWLING GREEN, KY 42101-5160

Grant Type: COMPREHENSIVE COUNSELING

Amount Awarded: $14,987.00

MACOUPIN COUNTY HOUSING AUTHORITY

760 Anderson Street

CARLINVILLE, IL 62626-1003

Grant Type: COMPREHENSIVE COUNSELING

Amount Awarded: $16,115.00

MANATEE COMMUNITY ACTION AGENCY, INC. F/K/A MANATEE OPPORTUNITY COUNCIL, INCORPORATED

302 Manatee Ave E Ste 200

BRADENTON, FL 34208-1900

Grant Type: COMPREHENSIVE COUNSELING

Amount Awarded: $18,373.00

MARKETVIEW HEIGHTS ASSOCIATION, INC.

308 North Street

ROCHESTER, NY 14605-2540

Grant Type: COMPREHENSIVE COUNSELING

Amount Awarded: $20,337.00

MARYLAND RURAL DEVELOPMENT CORPORATION

101 Cedar Lane

PO Box 739

GREENSBORO, MD 21639-1580

Grant Type: COMPREHENSIVE COUNSELING

Amount Awarded: $17,996.00

METRO-INTERFAITH HOUSING MANAGEMENT CORPORATION DBA METRO INTERFAITH SERVICES

21 New St.

BINGHAMTON, NY 13903-1759

Grant Type: COMPREHENSIVE COUNSELING

Amount Awarded: $14,987.00

MIAMI BEACH COMMUNITY DEVELOPMENT CORP

945 Pennsylvania Ave

Miami Beach, FL 33139-5482

Grant Type: COMPREHENSIVE COUNSELING

Amount Awarded: $12,730.00

MID-FLORIDA HOUSING PARTNERSHIP, INC.

1834 Mason Ave

Daytona Beach, FL 32117-5101

Grant Type: COMPREHENSIVE COUNSELING

Amount Awarded: $20,044.00

MISSISSIPPI COUNTY, ARKANSAS ECONOMIC OPPORTUNITY COMMISSION, INC.

1400 North Division Street

BLYTHEVILLE, AR 72315-1438

Grant Type: COMPREHENSIVE COUNSELING

Amount Awarded: $15,154.00

MOVIN' OUT, INC.

902 Royster Oaks Drive Ste 105

MADISON, WI 53714-9101

Grant Type: COMPREHENSIVE COUNSELING

Amount Awarded: $21,925.00

MUNCIE HOME OWNERSHIP AND DEVELOPMENT CENTER

120 West Charles Street

MUNCIE, IN 47305-2419

Grant Type: COMPREHENSIVE COUNSELING

Amount Awarded: $18,832.00

MUSCATINE MUNICIPAL HOUSING AGENCY

2806 Bloomington Lane

MUSCATINE, IA 52761-6135

Grant Type: COMPREHENSIVE COUNSELING

Amount Awarded: $19,125.00

NATIVE AMERICAN YOUTH AND FAMILY CENTER

5135 NE Columbia Blvd.

Portland, OR 97218-1201

Grant Type: COMPREHENSIVE COUNSELING

Amount Awarded: $12,730.00

NCCS CENTER FOR NONPROFIT HOUSING

6308 S. Warner

FREMONT, MI 49412-9279

Grant Type: COMPREHENSIVE COUNSELING

Amount Awarded: $12,730.00

NEVADA PARTNERS, INC.

710 W Lake Mead Blvd.

North Las Vegas, NV 89030-4067

Grant Type: COMPREHENSIVE COUNSELING

Amount Awarded: $20,797.00

NEWTOWN COMMUNITY DEVELOPMENT CORPORATION

511 W University Dr Ste 4

Tempe, AZ 85281-5585

Grant Type: COMPREHENSIVE COUNSELING

Amount Awarded: $19,961.00

NIAGARA FALLS NEIGHBORHOOD HOUSING SERVICES

479 16th St

NIAGARA FALLS, NY 14303-1636

Grant Type: COMPREHENSIVE COUNSELING

Amount Awarded: $19,501.00

NORTH HUDSON COMMUNITY ACTION CORPORATION

800 31st St

Union City, NJ 07087-2428

Grant Type: COMPREHENSIVE COUNSELING

Amount Awarded: $16,115.00

NORTHERN PUEBLOS HOUSING AUTHORITY

5 W Gutierrez Ste 10

Santa Fe, NM 87506-0956

Grant Type: COMPREHENSIVE COUNSELING

Amount Awarded: $16,115.00

NORTHWEST MICHIGAN COMMUNITY ACTION AGENCY, INC

3963 Three Mile Road, North

TRAVERSE CITY, MI 49686-9164

Grant Type: COMPREHENSIVE COUNSELING

Amount Awarded: $23,890.00

OAKLAND COUNTY HOUSING COUNSELING

250 Elizabeth Lake Rd Ste 1900

Pontiac, MI 48341-1035

Grant Type: COMPREHENSIVE COUNSELING

Amount Awarded: $28,229.00

OAKLAND LIVINGSTON HUMAN SERVICE AGENCY

196 Cesar E Chavez Ave

Pontiac, MI 48342-1094

Grant Type: COMPREHENSIVE COUNSELING

Amount Awarded: $19,125.00

OCEAN COMMUNITY ECONOMIC ACTION NOW, INC. (O.C.E.A.N., INC.)

2008 Route 37

TOMS RIVER, NJ 08753-7183

Grant Type: COMPREHENSIVE COUNSELING

Amount Awarded: $21,842.00

OPA-LOCKA COMMUNITY DEVELOPMENT CORPORATION

490 Opa Locka Blvd.

Opa Locka, FL 33054-3563

Grant Type: COMPREHENSIVE COUNSELING

Amount Awarded: $20,337.00

OPEN COMMUNITIES

614 Lincoln Avenue

WINNETKA, IL 60093-2331

Grant Type: COMPREHENSIVE COUNSELING

Amount Awarded: $15,070.00

OPEN DOOR COUNSELING CENTER

34420 SW Tualatin Valley Hwy

Hillsboro, OR 97123-5470

Grant Type: COMPREHENSIVE COUNSELING

Amount Awarded: $31,656.00

ORANGE COUNTY FAIR HOUSING COUNCIL, INC

1516 Brookhollow Drive

Suite A

SANTA ANA, CA 92705-5426

Grant Type: COMPREHENSIVE COUNSELING

Amount Awarded: $15,237.00

ORGANIZED COMMUNITY ACTION PROGRAM, INC

507 North Three Notch Street

TROY, AL 36081-2120

Grant Type: COMPREHENSIVE COUNSELING

Amount Awarded: $18,121.00

PENNSYLVANIA COMMUNITY REAL ESTATE CORP. D/B/A TENANT UNION REPRESENTATIVE NETWORK (T.U.R.N.)

21 S 12th St Ste 1100

Philadelphia, PA 19107-3610

Grant Type: COMPREHENSIVE COUNSELING

Amount Awarded: $21,256.00

PRO-HOME, INC.

40 Summer Street

TAUNTON, MA 02780-3420

Grant Type: COMPREHENSIVE COUNSELING

Amount Awarded: $21,466.00

PROJECT SENTINEL

554 Valley Way

MILPITAS, CA 95035-4106

Grant Type: COMPREHENSIVE COUNSELING

Amount Awarded: $27,268.00

PROVIDENCE HOUSING AUTHORITY

100 Broad St

Providence, RI 02903-4154

Grant Type: COMPREHENSIVE COUNSELING

Amount Awarded: $17,244.00

RALEIGH AREA DEVELOPMENT AUTHORITY, INC.

4030 Wake Forest Road

Suite 205

RALEIGH, NC 27609-6800

Grant Type: COMPREHENSIVE COUNSELING

Amount Awarded: $20,504.00

REFUGEE FAMILY ASSISTANCE PROGRAM

5405 Memorial Drive Suite 101

STONE MOUNTAIN, GA 30083-3234

Grant Type: COMPREHENSIVE COUNSELING

Amount Awarded: $19,292.00

ROCKAWAY DEVELOPMENT AND REVITALIZATION CORPORATION

1920 Mott Ave

Suite 2

FAR ROCKAWAY, NY 11691-4106

Grant Type: COMPREHENSIVE COUNSELING

Amount Awarded: $18,456.00

SANDHILLS COMMUNITY ACTION PROGRAM, INC.

340 Commerce Avenue, Suite 20

SOUTHERN PINES, NC 28387-7168

Grant Type: COMPREHENSIVE COUNSELING

Amount Awarded: $22,527.00

SHORE UP!, INC

520 Snow Hill Rd

SALISBURY, MD 21804-6031

Grant Type: COMPREHENSIVE COUNSELING

Amount Awarded: $16,575.00

SMART MONEY HOUSING AKA SMART WOMEN SMART MONEY

3510 West Franklin Blvd.

CHICAGO, IL 60624-1316

Grant Type: COMPREHENSIVE COUNSELING

Amount Awarded: $37,393.00

SOLITA'S HOUSE INC

3101 E. 7th Ave.

TAMPA, FL 33605-4207

Grant Type: COMPREHENSIVE COUNSELING

Amount Awarded: $23,137.00

SOUTHERN APPALACHIAN LABOR SCHOOL FOUNDATION, INC.

140 School Street

OAK HILL, WV 25901-2932

Grant Type: COMPREHENSIVE COUNSELING

Amount Awarded: $17,411.00

SOUTHERN BANCORP COMMUNITY PARTNERS

8924 Kanis Rd

Little Rock, AR 72205-6414

Grant Type: COMPREHENSIVE COUNSELING

Amount Awarded: $17,327.00

SOUTHERN MARYLAND TRI-COUNTY COMMUNITY ACTION

8383 Old Leonardtown Road

Hughesville, MD 20637

Grant Type: COMPREHENSIVE COUNSELING

Amount Awarded: $22,678.00

SOUTHERN MINNESOTA REGIONAL LEGAL SERVICES, INC.

55 5th St E Ste 400

Saint Paul, MN 55101-1118

Grant Type: COMPREHENSIVE COUNSELING

Amount Awarded: $26,397.00

SOUTHERN NEVADA REGIONAL HOUSING AUTHORITY (SNRHA)

340 N 11th St

Las Vegas, NV 89101-3125

Grant Type: COMPREHENSIVE COUNSELING

Amount Awarded: $16,115.00

SOUTHEASTERN HOUSING FOUNDATION

986 Doyle Street

ORANGEBURG, SC 29115-6087

Grant Type: COMPREHENSIVE COUNSELING

Amount Awarded: $16,868.00

SPRINGFIELD HOUSING AUTHORITY

200 N 11th St

Springfield, IL 62703-1004

Grant Type: COMPREHENSIVE COUNSELING

Amount Awarded: $12,730.00

STATESVILLE HOUSING AUTHORITY

110 W Allison St

Statesville, NC 28677-6616

Grant Type: COMPREHENSIVE COUNSELING

Amount Awarded: $16,575.00

STRYCKER'S BAY NEIGHBORHOOD COUNCIL, INC.

696 Amsterdam Avenue

NEW YORK, NY 10025-6901

Grant Type: COMPREHENSIVE COUNSELING

Amount Awarded: $13,106.00

SUMMECH COMMUNITY DEVELOPMENT CORPORATION, INC.

633 Pryor Street

ATLANTA, GA 30312-2738

Grant Type: COMPREHENSIVE COUNSELING

Amount Awarded: $20,856.00

TAMPA BAY COMMUNITY DEVELOPMENT CORPORATION

2139 NE Coachman Rd

Clearwater, FL 33765-2612

Grant Type: COMPREHENSIVE COUNSELING

Amount Awarded: $22,385.00

TENANT RESOURCE CENTER

1202 Williamson St Ste 102

MADISON, WI 53703-4806

Grant Type: COMPREHENSIVE COUNSELING

Amount Awarded: $20,964.00

THE AFFORDABLE HOUSING CORPORATION OF MARION, INDIANA

812 S Washington St

Marion, IN 46953-1967

Grant Type: COMPREHENSIVE COUNSELING

Amount Awarded: $23,890.00

THE AGRICULTURE AND LABOR PROGRAM, INC.

300 Lynchburg Road

LAKE ALFRED, FL 33850-2576

Grant Type: COMPREHENSIVE COUNSELING

Amount Awarded: $15,363.00

TOTAL RESOURCE COMMUNITY DEVELOPMENT ORGANIZATION

1415 West 104th Street

CHICAGO, IL 60643-2962

Grant Type: COMPREHENSIVE COUNSELING

Amount Awarded: $19,835.00

TWIN RIVERS OPPORTUNITIES, INC.

318 Craven St.

NEW BERN, NC 28560-4909

Grant Type: COMPREHENSIVE COUNSELING

Amount Awarded: $21,549.00

UNITED NEIGHBORS, INC.

808 Harrison Street

DAVENPORT, IA 52803-5000

Grant Type: COMPREHENSIVE COUNSELING

Amount Awarded: $16,115.00

UNIVERSAL HOUSING DEVELOPMENT CORPORATION

301 E 3rd St

Russellville, AR 72801-5109

Grant Type: COMPREHENSIVE COUNSELING

Amount Awarded: $21,549.00

UTAH STATE UNIVERSITY—FAMILY LIFE CENTER—HFC

493 N 700 E

Logan, UT 84321-4231

Grant Type: COMPREHENSIVE COUNSELING

Amount Awarded: $25,889.00

WACO COMMUNITY DEVELOPMENT CORPORATION

1624 Colcord Ave

Waco, TX 76707-2246

Grant Type: COMPREHENSIVE COUNSELING

Amount Awarded: $20,337.00

WEST PALM BEACH HOUSING AUTHORITY

1715 Division Ave

West Palm Beach, FL 33407-6284

Grant Type: COMPREHENSIVE COUNSELING

Amount Awarded: $20,713.00

WESTERN PIEDMONT COUNCIL OF GOVERNMENTS

1880 2nd Ave NW

HICKORY, NC 28601-5766

Grant Type: COMPREHENSIVE COUNSELING

Amount Awarded: $28,772.00

WESTMORELAND COMMUNITY ACTION

226 S Maple Ave

Greensburg, PA 15601-3234

Grant Type: COMPREHENSIVE COUNSELING

Amount Awarded: $15,823.00

WILL COUNTY CENTER FOR COMMUNITY CONCERNS

2455 Glenwood Ave

Joliet, IL 60435-5464

Grant Type: COMPREHENSIVE COUNSELING

Amount Awarded: $28,713.00

WORKING IN NEIGHBORHOODS

1814 Dreman Ave

Cincinnati, OH 45223-2319

Grant Type: COMPREHENSIVE COUNSELING

Amount Awarded: $21,173.00

WSOS COMMUNITY ACTION COMMISSION, INC.

109 S Front St

FREMONT, OH 43420-3021

Grant Type: COMPREHENSIVE COUNSELING

Amount Awarded: $24,892.00

YOUNGSTOWN METROPOLITAN HOUSING AUTHORITY

131 W Boardman St

Youngstown, OH 44503-1337

Grant Type: COMPREHENSIVE COUNSELING

Amount Awarded: $20,713.00

YOUNGSTOWN NEIGHBORHOOD DEVELOPMENT CORP.

820 Canfield Road

YOUNGSTOWN, OH 44511-2345

Grant Type: COMPREHENSIVE COUNSELING

Amount Awarded: $19,585.00

YOUTH EDUCATION AND HEALTH IN SOULARD

1901 S 11th St

Saint Louis, MO 63104-3915

Grant Type: COMPREHENSIVE COUNSELING

Amount Awarded: $21,901.00

Appendix B—List of FY 2016 Awardees for the FY 2016-2017 Housing Counseling Training NOFA

Intermediary Organizations (4)

NATIONAL COMMUNITY REINVESTMENT COALITION, INC.

727 15th St NW

Washington, DC 20005-2168

Grant Type: TRAINING

Amount Awarded: $457,778.00

NATIONAL COUNCIL OF LA RAZA

1126 16th Street, NW., Suite 600

Raul Yzaguirre Building

WASHINGTON, DC 20036-4845

Grant Type: TRAINING

Amount Awarded: $607,948.00

NEIGHBORHOOD REINVESTMENT CORP. DBA NEIGHBORWORKS AMERICA

999 North Capital Street NE

Suite 900

WASHINGTON, DC 20002-4684

Grant Type: TRAINING

Amount Awarded: $757,995.00

RURAL COMMUNITY ASSISTANCE CORPORATION

3120 Freeboard Drive

Suite 201

WEST SACRAMENTO, CA 95691-5039

Grant Type: TRAINING

Amount Awarded: $387,625.00

[FR Doc. 2016-21230 Filed 9-2-16; 8:45 am]

BILLING CODE 4210-67-P